DEPARTMENT OF TRANSPORTATION

Federal Transit Administration

Intent To Prepare an Environmental Impact Statement for the Georgia Multi-Modal Passenger Terminal

AGENCY: Federal Transit Administration (FTA), United States Department of Transportation (USDOT).

ACTION: Notice of Intent (NOI) to prepare an Environmental Impact Statement (EIS).

SUMMARY: The FTA and the Georgia Department of Transportation (GDOT) intend to prepare an Environmental Impact Statement (EIS) for a proposed transit terminal project in Atlanta, Fulton County, Georgia. The EIS will be prepared in accordance with the National Environmental Policy Act (NEPA: 42 U.S.C. 4321 et seq.) of 1969 and the regulations implementing NEPA set forth in 40 CFR Parts 1500-1508 and 23 CFR Part 771, as well as provision of the Safe, Accountable, Flexible, and Efficient Transportation Equity Act—A Legacy for Users (SAFETEA-LU).

The purpose of this Notice is to:

• Advise the public of FTA serving as the lead Federal agency;

• Provide information on the proposed project, purpose and need for the project, and alternatives to be considered; and

• Invite public and agency participation in the EIS process.

The EIS will examine alternatives to provide a facility to serve as a destination and transfer point for a variety of regional and local transportation services in Downtown Atlanta.

DATES: The date, time, and location for the public scoping meetings are as follows:

April 24, 2012

4 p.m. to 7 p.m.

Georgia Railroad Freight Depot, The Freight Room, 65 Martin Luther King Jr. Drive SE., Atlanta, GA 30303.

May 1, 2012

11 a.m. to 2 p.m.

Georgia State University Student Center, Court Salon, 44 Gilmer Street, Atlanta, GA 30302.

May 3, 2012

4 p.m. to 7 p.m.

Antioch Baptist Church North, 540 Cameron M. Alexander Blvd. NW., Atlanta, Georgia, 30318.

ADDRESSES: Written comments on the project should be sent to:

Jonathan Cox, Georgia Department of Transportation, One Georgia Center, 600 West Peachtree Street NW., Atlanta, Georgia 30308. Telephone: (404) 631-1197. Email: jocox@dot.ga.gov.

Brian Smart, Federal Transit Administration, 230 Peachtree Street NW., Suite 800, Atlanta, GA 30327. Telephone: 404-865-5607. Email: brian.smart@dot.gov.

SUPPLEMENTARY INFORMATION: In accordance with Section 6002 of SAFETEA-LU, FTA and GDOT invite comment on the scope of the EIS, specifically on the project's purpose and need, the alternatives to be evaluated that may address the purpose and need, and the potential impacts of the alternatives considered.

1. Scoping

On April 24, 2012, May 1, 2012, and May 3, 2012, public scoping meetings will be held to solicit public comments on the scope of the EIS. Oral and written comments will be accepted from the public at the scoping meeting. If special services such as translation, including sign language, are needed, please contact Jonathan Cox at the number listed above.

A notice of the public scoping briefing will be published in local newspapers and on the project Web site (www.georgiap3.com/mmpt). The notice will also identify the closing date of the public comment period on the scope of the EIS.

2. Description of the Project Area

The historic hub of Atlanta's freight railroads lies just west of the Five Points intersection in Downtown Atlanta. While some lines remain active, others have been converted to passenger use by the Metropolitan Atlanta Regional Transportation Authority (MARTA) or are abandoned. Portions of Atlanta's massive rail yards were decked over for large-scale public and private developments, including CNN Center, the Georgia World Congress Center, Philips Arena, and the Georgia Dome.

In-between Five Points and the CNN Center, a portion of the former rail yards serve as parking or vacant land. The street grid crosses these parcels on viaduct such that the parking and vacant land is 20 feet or so below ground elevation. This area of parking and vacant land is commonly referred to as the “Gulch.”

The EIS will focus on an area bounded by Centennial Olympic Park Drive to the west, Trinity Avenue to the south, Peachtree Street to the east, and Marietta Street to the north. Many blocks in this area are surface or structured parking or vacant buildings or lots. A few parcels contain office or commercial uses.

3. Purpose and Need

The Atlanta region lacks a transportation hub that provides a central facility and transfer point for its variety of existing and future inter-city, regional and local modal services. At the same time, the Gulch creates a large void in the downtown that physically and psychologically isolates surrounding destinations and districts from one another.

The purpose of the Georgia Multi-modal Passenger Terminal is to establish a multimodal hub to enhance regional mobility and connectivity among existing and proposed transit systems; to establish new connections between downtown neighborhoods; and to provide the opportunity to fill the Gulch, which will create an activity center and link existing and planned residential, employment and entertainment destinations in and near Downtown Atlanta.

The EIS will evaluate alternatives that address the following project goals:

(1) Provide a facility to serve as a destination and transfer point for a variety of regional and local transportation services;

(2) Improve passenger and freight connectivity in and within downtown Atlanta; and

(3) Attract new or renewed investment in a transit-centered environment.

4. Alternatives

FTA and GDOT will consider all reasonable alternatives to provide a multi-modal passenger terminal, and potentially related development that meet the purpose and need defined above. The alternatives considered will include at least a No Build Alternative and one Build Alternative. The No Build Alternative consists of the transportation system expected to be in place in the project design year if the proposed project were not built. It includes all other projects currently in the Regional Transportation Plan and the Atlanta Regional Commission's Transportation Improvement Program (TIP) for the planning horizon. The Build alternatives will involve construction of a new multi-modal transit terminal and contributing features and amenities within the Gulch. Preliminary alternatives will be presented to the public during the scoping process for the EIS, and the public will have the opportunity to comment on the alternatives. The EIS will consider all reasonable alternatives that meet the project purpose and need and are considered prudent options by the project sponsors, agencies, and the public during the scoping process.

5. Probable Effects

The EIS will consider in detail the potential environmental effects of the alternatives under consideration based on the current scoping efforts. The Draft EIS (DEIS) and Final EIS (FEIS) will summarize the results of coordination with federal, state, and local agencies and the public at large; present the appropriate federal, state, and local regulations and policies; inventory and compile previous studies pertinent to the project; describe the methodology used to assess impacts; identify and describe the affected environment; analyze and document the construction-related (short-term) and operational (long-term) environmental consequences (direct, indirect, and cumulative) of the project alternatives; and identify opportunities and measures that mitigate any identified adverse impacts. The specific scope of analysis and study areas used to undertake the analysis in the EIS will be established during the public and agency scoping process.

6. FTA Procedures

The EIS is being prepared in accordance with the National Environmental Policy Act of 1969 (NEPA), as amended, and implemented by the Council on Environmental Quality (CEQ) regulations (40 CFR parts 1500 to 1508) and FHWA environmental impact regulations (49 CFR part 622, 23 CFR Part 771, and 23 CFR part 774) and Section 6002 of the Safe, Accountable, Flexible, Efficient Transportation Equity Act—A Legacy for Users (SAFETEA-LU) of 2005. This EIS will also comply with requirements of Section 106 of the National Historic Preservation Act of 1966, as amended, Section 4(f) of the U.S. Department of Transportation Act of 1966, the 1990 Clean Air Act Amendments, Executive Order 12898 (Federal Actions to Address Environmental Justice in Minority and Low-Income Populations), Executive Order 11990 (Protection of Wetlands), and other applicable federal laws, rules, and regulations. This EIS will also satisfy environmental review requirements of the Georgia Environmental Policy Act (GEPA).

Regulations implementing NEPA, as well as provisions of SAFETEA-LU, call for enhanced agency and public involvement in the EIS process. An invitation to all Federal and non-Federal agencies and Native American tribes that may have an interest in the proposed project will be extended. In the event that an agency or tribe is not invited and would like to participate, please contact Jonathan Cox at the contact information listed above. A Coordination Plan and Public Involvement Plan have been developed summarizing how the public and agencies will be engaged in the process. The plans will be posted to the project Web site (www.dot.ga.gov/MMPT). The public coordination and outreach efforts will include public meetings, open houses, a project Web site, stakeholder advisory and work groups, and public hearings.

The project sponsor may identify a locally preferred alternative in the DEIS when made available for public and agency comments. Public hearings on the DEIS will be held in Fulton County. On the basis of the DEIS and the public and agency comments received, the Project Sponsor will identify the locally preferred alternative in the FEIS. The FEIS will serve as the basis for federal and state environmental findings and determinations needed to conclude the environmental review process.

(Catalog of Federal Domestic Assistance Program Number 20.205, Highway Planning and Construction. The regulations implementing Executive Order 12372 regarding intergovernmental consultation on Federal programs and activities apply to this program.)

Issued on: March 27, 2012.
Yvette G. Taylor,
Regional Administrator.

[FR Doc. 2012-7892 Filed 4-2-12; 8:45 am]

BILLING CODE P